SECURITIES AND EXCHANGE COMMISSION

[File No. 500-1]

Cannabusiness Group, Inc.; Order of Suspension of Trading

May 7, 2014.

It appears to the Securities and Exchange Commission that there is a lack of current and accurate information concerning the securities of Cannabusiness Group, Inc. because of questions regarding the accuracy of publicly available information about the company's operations. Cannabusiness Group, Inc. is a Nevada corporation with its principal place of business located in Irvine, California. Its stock is quoted on OTC Link, operated by OTC Markets Group Inc., under the ticker: CBGI.

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 7, 2014, through 11:59 p.m. EDT on May 20, 2014.

By the Commission.
Jill M. Peterson,
Assistant Secretary.

[FR Doc. 2014-10798 Filed 5-7-14; 4:15 pm]

BILLING CODE 8011-01-P+